DEPARTMENT OF THE INTERIOR

Bureau of Land Management

[ID-080-1120-PG]

Notice of Address Change for Challis Field Office, Idaho

AGENCY: Bureau of Land Management, Interior.

ACTION: Notice of address change, Challis Field Office, Idaho.

SUMMARY: The address for the Bureau of Land Management office in Challis, Idaho, will be changing on or about September 1, 2002. The new address will be: 801 Blue Mountain Road, Challis, Idaho 83226. All telephone numbers for the Challis Field Office will remain the same.

FOR FURTHER INFORMATION CONTACT: Renee Snyder, BLM Challis Field Manager, HC 63, Box 1670, Challis, Idaho 83226 or telephone (208) 879-6200.

Dated: July 10, 2002.
Stephanie Snook,
Acting District Manager.

[FR Doc. 02-18243 Filed 7-18-02; 8:45 am]

BILLING CODE 4310-GG-P